DEPARTMENT OF ENERGY

Federal Energy Regulatory Commission

[Project No. 10624-026]

French Paper Company; Notice of Application Tendered for Filing With The Commission and Establishing Procedural Schedule for Licensing and Deadline for Submission of Final Amendments

Take notice that the following hydroelectric application has been filed with the Commission and is available for public inspection.

a. Type of Application: Subsequent Minor License.

b. Project No.: 10624-026.

c. Date Filed: February 27, 2019.

d. Applicant: French Paper Company.

e. Name of Project: French Paper Hydroelectric Project.

f. Location: The French Paper Project is located on the St. Joseph River in the City of Niles, Michigan. The project does not occupy federal land.

g. Filed Pursuant to: Federal Power Act, 16 U.S.C. 791 (a)-825(r).

h. Applicant Contact: Mr. Shane Fenske, President, French Paper Company, 100 French Street, Niles, MI 49120; phone (269) 683-1100 or email at fenske@frenchpaper.com.

i. FERC Contact: Jay Summers, phone: (202) 502-8764 or email at jay.summers@ferc.gov.

j. This application is not ready for environmental analysis at this time.

k. The French Paper Project consists of the following existing facilities: (1) An 80 acre reservoir with a storage capacity of 510 acre-feet at a water surface elevation of 653.75 feet mean sea level; (2) a 321-foot-long, 13-foot-high concrete spillway structure, topped by 2.3-foot-high flashboards; (3) a 100-foot-wide, 600-foot-long intake channel; (4) a 115-foot-wide, 55-foot-long, 56-foot-high powerhouse, with an operating head of 14 feet; (5) trash racks at the entrance to the intake channel and at the entrance to the powerhouse; (6) two vertical shaft propeller turbines each coupled to a 400-kilowatt (kW) generator, one vertical shaft propeller turbine coupled to a 300-kW generator, and one vertical shaft Francis turbine coupled to a 200-kW generator, for a total installed capacity of 1.3 megawatts; (7) a 6-foot-wide, 220-foot-long reinforced concrete fish ladder; (8) a 480-volt to 12-kilovolt (kV) transformer located adjacent to the powerhouse, which is connected to Indiana Michigan Power Company's 3-phase, 12-kV overhead transmission line; and (9) appurtenant facilities.

The French Paper Project is operated in a run-of-river mode with an estimated annual energy production of approximately 8,442.8 megawatt hours. The French Paper Company proposes to continue to operate the project in a run-of-river mode and does not propose any new construction or modifications to the project.

l. A copy of the application is available for review at the Commission in the Public Reference Room or may be viewed on the Commission's website at http://www.ferc.gov using the “eLibrary” link. Enter the docket number excluding the last three digits in the docket number field to access the document. For assistance, contact FERC Online Support at FERCOnlineSupport@ferc.gov, (866) 208-3676 (toll free), or (202) 502-8659 (TTY). A copy is also available for inspection and reproduction at the address in item h above.

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Notice of Acceptance/Notice of Ready for Environmental Analysis | June 2019.
Filing of recommendations, preliminary terms and conditions, and fishway prescriptions | August 2019.
Commission issues Environmental Assessment (EA) | January 2020.
Comments on EA | February 2020.
Modified terms and conditions | April 2020.

o. Final amendments to the application must be filed with the Commission no later than 30 days from the issuance date of the notice of ready for environmental analysis.

Dated: March 11, 2019.
Kimberly D. Bose,
Secretary.

[FR Doc. 2019-05051 Filed 3-18-19; 8:45 am]

BILLING CODE 6717-01-P